DEPARTMENT OF ENERGY

10 CFR Part 430

[Docket No. EERE-2010-BT-TP-0023]

RIN 1904-AC26

Energy Conservation Program for Consumer Products: Test Procedure for Microwave Ovens

AGENCY: Office of Energy Efficiency and Renewable Energy, Department of Energy.

ACTION: Notice of public meeting.

SUMMARY: The U. S. Department of Energy (DOE) determined that the current active mode provisions in its test procedure for microwave ovens do not produce accurate and repeatable test results, and is also unaware of any test procedures that have been developed that address the concerns with the DOE microwave oven cooking efficiency test procedure. Elsewhere in today's Federal Register, DOE published a final rule to repeal the active mode test procedures for microwave ovens established pursuant to the Energy Policy and Conservation Act (EPCA). DOE is convening this public meeting to discuss and receive comments on several issues related to active mode test procedures for microwave ovens to consider in developing a new active mode microwave oven test procedure.

DATES: DOE will hold a public meeting on Thursday, September 16, 2010, from 9 a.m. to 4 p.m., in Washington, DC. DOE must receive requests to speak at the public meeting before 4 p.m., Thursday, September 2, 2010. DOE must receive a signed original and an electronic copy of statements to be given at the public meeting before 4 p.m., Thursday, September 9, 2010.

ADDRESSES: The public meeting will be held at the U.S. Department of Energy, Forrestal Building, Room 8E-089, 1000 Independence Avenue, SW., Washington, DC 20585-0121. To attend the public meeting, please notify Ms. Brenda Edwards at (202) 586-2945. Please note that foreign nationals visiting DOE Headquarters are subject to advance security screening procedures. Any foreign national wishing to participate in the meeting should advise DOE as soon as possible by contacting Ms. Edwards to initiate the necessary procedures.

Any comments submitted must identify the notice of public meeting (NOPM) on the Test Procedure for Microwave Ovens, and provide the docket number EERE-2010-BT-TP-0023 and/or regulatory information number (RIN) 1904-AC26, Comments may be submitted using any of the following methods:

1. Federal eRulemaking Portal: http://www.regulations.gov. Follow the instructions for submitting comments.

2. E-mail: MWO-2010-TP-0023@ee.doe.gov. Include docket number EERE-2010-BT-TP-0023 and/or RIN 1904-AC26 in the subject line of the message.

3. Mail: Ms. Brenda Edwards, U.S. Department of Energy, Building Technologies Program, Mailstop EE-2J, 1000 Independence Avenue, SW., Washington, DC 20585-0121. Please submit one signed original paper copy.

4. Hand Delivery/Courier: Ms. Brenda Edwards, U.S. Department of Energy, Building Technologies Program, 6th Floor, 950 L'Enfant Plaza, SW., Washington, DC 20024. Telephone: (202) 586-2945. Please submit one signed original paper copy.

Docket: For access to the docket to read background documents or comments received, visit the U.S. Department of Energy, Resource Room of the Building Technologies Program, 6th Floor, 950 L'Enfant Plaza, SW., Washington, DC 20024, (202) 586-2945, between 9 a.m. and 4 p.m., Monday through Friday, except Federal holidays. Please call Ms. Brenda Edwards at the above telephone number for additional information about visiting the Resource Room.

FOR FURTHER INFORMATION CONTACT: Mr. Wes Anderson, U.S. Department of Energy, Energy Efficiency and Renewable Energy, Building Technologies Program, EE-2J, 1000 Independence Avenue, SW., Washington, DC 20585-0121. Tel.: (202) 586-7335. E-mail: Wes.Anderson@ee.doe.gov.

Ms. Elizabeth Kohl, U.S. Department of Energy, Office of the General Counsel, GC-71, 1000 Independence Avenue, SW., Washington, DC 20585-0121. Tel.: (202) 586-7796. E-mail: Elizabeth.Kohl@hq.doe.gov.

For information on how to submit or review public comments and on how to participate in the public meeting, contact Ms. Brenda Edwards, U.S. Department of Energy, Office of Energy Efficiency and Renewable Energy, Building Technologies Program, EE-2J, 1000 Independence Avenue, SW., Washington, DC 20585-0121. Telephone: (202) 586-2945. E-mail: Brenda.Edwards@ee.doe.gov.

SUPPLEMENTARY INFORMATION: Title III of the Energy Policy and Conservation Act (42 U.S.C. 6291 et seq.; EPCA or the Act) sets forth a variety of provisions designed to improve energy efficiency. Part A of Title III (42 U.S.C. 6291-6309) establishes the “Energy Conservation Program for Consumer Products Other Than Automobiles” for consumer products, including microwave ovens. (42 U.S.C. 6291(1)-(2) and 6292(a)(10)) Under the Act, this program consists essentially of three parts: testing, labeling, and establishing Federal energy conservation standards.

Manufacturers of covered products must use DOE test procedures to certify that their products comply with energy conservation standards adopted under EPCA and to represent the efficiency of their products. (42 U.S.C. 6295(s); 42 U.S.C. 6293(c)) DOE must also use DOE test procedures in any action to determine whether covered products comply with EPCA standards. (42 U.SC. 6295(s)) Criteria and procedures for DOE's adoption and amendment of such test procedures, as set forth in EPCA, require that test procedures be reasonably designed to produce test results which measure energy efficiency, energy use, or estimated annual operating cost of a covered product during a representative average use cycle or period of use. Test procedures must also not be unduly burdensome to conduct. (42 U.S.C. 6293(b)(3))

DOE's test procedure for microwave ovens was established as part of an October 3, 1997, final rule that also revised the test procedures for other cooking products to measure their efficiency and energy use more accurately. 62 FR 51976.¹ The microwave oven test procedure incorporates portions of the International Electrotechnical Commission (IEC) Standard 705-1998 and Amendment 2-1993, “Methods for Measuring the Performance of Microwave Ovens for Households and Similar Purposes,” (IEC Standard 705) ² and measures microwave oven cooking efficiency and energy factor (EF). Id. However, IEC Standard 705 has been declared obsolete by IEC, and the current IEC test procedure is IEC Standard 60705-2006, “Household microwave ovens—Methods of measuring performance” (IEC Standard 60705).

¹ DOE's active mode test procedure was formerly codified at appendix I to subpart B of Title 10 of the Code of Federal Regulations (CFR).

² IEC standards are available online at: http://www.iec.ch.

As part of the appliance standards analysis leading to a final rule published on April 8, 2009 (74 FR 16040), DOE tested 32 microwave ovens, and the Association of Home Appliance Manufacturers (AHAM) tested 21 additional units, for a total of 53 microwave ovens, according to the DOE microwave oven test procedure, using provisions from both IEC Standard 705 and IEC Standard 60705.³ DOE observed significant variability in the cooking efficiency measurements from both methods, and was unable to ascertain why similarly designed, equipped, and constructed microwave ovens showed varying efficiencies.⁴

³ Both DOE's and AHAM's microwave oven samples contained units with manufacturer-rated output powers ranging from 700 to 1,300 W.

⁴ For more details of the cooking efficiency testing conducted as part of the appliance standards rulemaking, see the 2009 Technical Support Document for Residential Dishwashers, Dehumidifiers, and Cooking Products and Commercial Clothes Washers. Available online at http://www1.eere.energy.gov/buildings/appliance_standards/residential/cooking_products.html.

Because DOE is not aware of other existing test procedures that produce representative and repeatable cooking efficiency measurements for microwave ovens, and because of the issues with using the existing DOE microwave oven test procedure, DOE has published a final rule elsewhere in today's Federal Register to repeal the existing active mode provisions in the microwave oven test procedure.

The public meeting announced in today's notice is the first step in considering the development of a new active mode test procedure for microwave ovens. DOE will work with industry and interested parties to discuss the various issues associated with the current microwave oven test procedure, and to determine if any test methods are currently available to address these concerns.

DOE will make a presentation summarizing the current status and will initiate a discussion regarding any test procedures that could help address each issue. DOE encourages those who wish to participate in the meeting to make presentations that address these issues. If you would like to make a presentation during the meeting, please inform Ms. Edwards at least two weeks before the date of the meeting and provide her with a copy of your written material at least one week before the date of the meeting.

The meeting will be conducted in an informal, conference style. A court reporter will be present to record the minutes of the meeting. There shall be no discussion of proprietary information, costs or prices, market shares, or other commercial matters regulated by antitrust law. After the meeting and a period for written statements, DOE will begin collecting data and developing a notice of proposed rulemaking for the microwave oven test procedure.

Issued in Washington, DC, on July 9, 2010.
Cathy Zoi,
Assistant Secretary, Energy Efficiency and Renewable Energy.

[FR Doc. 2010-17774 Filed 7-21-10; 8:45 am]

BILLING CODE 6450-01-P